DEPARTMENT OF STATE

[Public Notice: 9766]

Review of the Designation as a Foreign Terrorist Organization of Tehrik-e Taliban Pakistan (TTP) (and Other Aliases)

Based upon a review of the Administrative Record assembled pursuant to Section 219(a)(4)(C) of the Immigration and Nationality Act, as amended (8 U.S.C. § 1189(a)(4)(C)) (“INA”), and in consultation with the Attorney General and the Secretary of the Treasury, I conclude that the circumstances that were the basis for the designation of the aforementioned organization as a Foreign Terrorist Organization have not changed in such a manner as to warrant revocation of the designation and that the national security of the United States does not warrant a revocation of the designation.

Therefore, I hereby determine that the designation of the aforementioned organization as a Foreign Terrorist Organization, pursuant to Section 219 of the INA (8 U.S.C. § 1189), shall be maintained.

This determination shall be published in the Federal Register.

Dated: September 28, 2016.
John F. Kerry,
Secretary of State.

[FR Doc. 2016-25423 Filed 10-19-16; 8:45 am]

BILLING CODE 4710-AD-P